DEPARTMENT OF THE INTERIOR

National Park Service

[NPS-WASO-NAGPRA-14366; PPWOCRADN0-PCU00RP14.R50000]

Notice of Inventory Completion: Michigan State Police, Houghton Lake Post, Houghton Lake, MI

AGENCY: National Park Service, Interior.

ACTION: Notice.

SUMMARY: The Michigan State Police, Houghton Lake Post has completed an inventory of human remains, in consultation with the appropriate Indian tribes or Native Hawaiian organizations, and has determined that there is a cultural affiliation between the human remains and present-day Indian tribes or Native Hawaiian organizations. Lineal descendants or representatives of any Indian tribe or Native Hawaiian organization not identified in this notice that wish to request transfer of control of these human remains should submit a written request to the Michigan State Police, Houghton Lake Post. If no additional requestors come forward, transfer of control of the human remains to the lineal descendants, Indian tribes, or Native Hawaiian organizations stated in this notice may proceed.

DATES: Lineal descendants or representatives of any Indian tribe or Native Hawaiian organization not identified in this notice that wish to request transfer of control of these human remains should submit a written request with information in support of the request to the Michigan State Police at the address in this notice by January 2, 2014.

ADDRESSES: D/Sgt Katherine Trietch, 9011 W Lake City Road, Houghton Lake, MI 48629, telephone (989) 422-6923, email trietchk@michigan.gov.

SUPPLEMENTARY INFORMATION: Notice is here given in accordance with the Native American Graves Protection and Repatriation Act (NAGPRA), 25 U.S.C. 3003, of the completion of an inventory of human remains under the control of the Michigan State Police, Houghton Lake Post, Houghton Lake, MI. The human remains were removed from an unknown location in Saginaw County, MI.

This notice is published as part of the National Park Service's administrative responsibilities under NAGPRA, 25 U.S.C. 3003(d)(3). The determinations in this notice are the sole responsibility of the museum, institution, or Federal agency that has control of the Native American human remains. The National Park Service is not responsible for the determinations in this notice.

Consultation

A detailed assessment of the human remains was made by the Michigan State Police professional staff in consultation with representatives of the Saginaw Chippewa Indian Tribe of Michigan.

History and Description of the Remains

At an unknown date prior to June 2001, human remains representing, at minimum, three individuals were removed from an unknown location in Saginaw County, MI. The remains were collected during road construction in Saginaw County by a private citizen and stored in a garage. The private citizen's daughter reported that her father collected the remains when she was a little girl. No known individuals were identified. No associated funerary objects were present. The Michigan State University Anthropology Lab determined through investigative, forensic means that the remains are “Pre-modern Native American,” and represent one adult and at least two juveniles. The location the remains were found is near the current location of the Saginaw Chippewa Indian Tribe of Michigan. Based on geographic location and consultation, the remains are most likely the remains of a member of that tribe.

Determinations Made by the Michigan State Police

Officials of the Michigan State Police have determined that:

• Pursuant to 25 U.S.C. 3001(9), the human remains described in this notice represent the physical remains of three individuals of Native American ancestry.

• Pursuant to 25 U.S.C. 3001(2), there is a relationship of shared group identity that can be reasonably traced between the Native American human remains and Saginaw Chippewa Indian Tribe of Michigan.

Additional Requestors and Disposition

Lineal descendants or representatives of any Indian tribe or Native Hawaiian organization not identified in this notice that wish to request transfer of control of these human remains should submit a written request with information in support of the request to D/Sgt Katherine Trietch; 9011 W Lake City Road, Houghton Lake, MI 48629, telephone (989) 422-6923, email trietchk@michigan.gov, by January 2, 2014. After that date, if no additional requestors have come forward, transfer of control of the human remains to the Saginaw Chippewa Indian Tribe of Michigan may proceed.

The Michigan State Police is responsible for notifying the Saginaw Chippewa Indian Tribe of Michigan that this notice has been published.

Dated: October 28, 2013.
Sherry Hutt,
Manager, National NAGPRA Program.

[FR Doc. 2013-28916 Filed 12-2-13; 8:45 am]

BILLING CODE 4312-50-P